DEPARTMENT OF ENERGY

Federal Energy Regulatory Commission

[Project No. 15088-000]

Daybreak Power, Inc.; Notice of Preliminary Permit Application Accepted for Filing and Soliciting Comments, Motions To Intervene, and Competing Applications

On January 19, 2021, Daybreak Power, Inc., filed an application for a preliminary permit, pursuant to section 4(f) of the Federal Power Act (FPA), to study the feasibility of the Halverson Canyon Pumped Storage Project to be located near Lake Roosevelt in Lincoln County, Washington. The sole purpose of a preliminary permit, if issued, is to grant the permit holder priority to file a license application during the permit term. A preliminary permit does not authorize the permit holder to perform any land-disturbing activities or otherwise enter upon lands or waters owned by others without the owners' express permission.

The proposed pumped storage project would use the Bureau of Reclamation's Lake Roosevelt as the lower reservoir and consist of the following new facilities: (1) A 399-foot-high, rockfill concrete face upper reservoir with an estimated usable volume of approximately 29,000 acre-feet, at a maximum operating elevation of 2,400 feet mean sea level (msl); (2) a 10,015-foot long water conveyance system connecting the upper and lower reservoirs composed of three 35-feet diameter headrace tunnels, nine 13-feet diameter penstocks, and nine 15-feet diameter draft tubes; (3) a 754-foot-long, 82-foot-wide, 128-foot-high powerhouse containing nine 295-MW fixed-speed pump turbine/generation units for a combined capacity of approximately 2,650 megawatts; (4) a 5-mile-long 765 kilovolts (kV) transmission line connecting the powerhouse with Bonneville Powers Creston substation; and (5) appurtenant facilities. The project intake would be on federal land. The estimated annual generation of the Halverson Canyon Pumped Storage Project would be approximately 8,899,000 megawatt-hours.

Applicant Contact: Mr. Jim Day, CEO Daybreak Power Inc., 4075 Wilson Blvd., 8th Floor Arlington, VA 22203; phone: (703) 624-4971; email: jim@daybreakpower.com.

FERC Contact: Ingrid Brofman; phone: (202)-502-8347; email: Ingrid.brofman@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-15088-000.

More information about this project, including a copy of the application, can be viewed or printed on the “eLibrary” link of Commission's website at http://www.ferc.gov/docs-filing/elibrary.asp. Enter the docket number (P-15088) in the docket number field to access the document. For assistance, contact FERC Online Support.

Dated: April 14, 2021.
Kimberly D. Bose,
Secretary.

[FR Doc. 2021-08126 Filed 4-20-21; 8:45 am]

BILLING CODE 6717-01-P